SUSQUEHANNA RIVER BASIN COMMISSION

18 CFR Parts 803, 804, and 805

Public Hearing by the Commission To Take Action on Certain Projects; Revision of the SRBC Project Fee Schedule; Final Rule Making; and Incorporation of the Final Rule Making Action in the SRBC Comprehensive Plan

AGENCY: Susquehanna River Basin Commission (SRBC).

SUMMARY: Pursuant to its authority under the Susquehanna River Basin Compact, Pub. L. 91-575, 84 Stat. 1509 et seq. (the “Compact”) and its Regulations for Review of Projects, 18 CFR parts 803, 804 and 805, the SRBC will hold a public hearing to consider approval of certain water resources projects listed below, including two projects involving diversions, at its meeting to be held on December 5, 2006 at the Radisson Penn Harris Hotel and Convention Center, 1150 Camp Hill By-Pass, Camp Hill, Pa. 17011, beginning at 1 p.m. Also to be considered as part of this same public hearing will be (1) A final rule making action (see proposed rules, Federal Register, July 7, 2006, page 38692), (2) incorporation of the final rule making action into the SRBC Comprehensive Plan for Management and Development of the Water Resources of the Susquehanna River Basin; and (3) a revision of the Commission's current project fee schedule to make certain annual adjustments to that schedule and to conform the fee schedule to the final rule making action.

Opportunity to appear and comment: Interested parties may appear at the above hearing to offer written or oral comments to the Commission on the listed projects or the other matters to be schedule for action at the hearing. Written comments may also be submitted to the electronic and regular mail addresses listed below. The chair of the Commission reserves the right to limit oral statements at the hearing in the interest of time and to otherwise control the course of the hearing.

FOR FURTHER INFORMATION CONTACT: Richard A. Cairo, General Counsel, (717) 238-0423; ext. 306; fax: (717) 238-2436; e-mail: rcairo@src.net or Michael G. Brownell, Chief, Water Resources Management, (717) 238-0425, ext. 223; fax (717) 238-2436; e-mail mbrownell@srbc.net. Information on the project fee schedule may be obtained from Duane A. Friends, (717) 238-0424, ext. 309, dfriends@srbc.net or Eric Roof, (717) 238-0425, ext. 309, eroof@srbc.net. Regular mail may also be sent to the Commission's offices at 1721 North Front Street, Harrisburg, Pennsylvania 17102-2391. More information is also available for inspection at the Commission's offices or on the Commission's Web site at http://www.srbc.net.

SUPPLEMENTARY INFORMATION:

Projects Schedule for Action

1. Albany International, Village of Homer, Cortland County, Ny.

2. Knight Settlement Sand & Gravel, LLC, Town of Bath, Stueben County, Ny.

3. United Water PA-Dallas Operation, Dallas Borough, Luzerne County, Pa.

4. Blue Ridge Trail Golf Club, Inc., Dorrance Township, Luzerne County, Pa.

5. Aqua Pennsylvania, Inc.-Well Er-4, Hazel Township, Luzerne County, Pa.

6. Eagle Rock Resort Co.-Wells A and C, Black Creek Township, Luzerne County, Pa.

7. PPL Montour, LLC, Derry Township, Montour County, Pa.

8. Sunnyside Ethanol, LLC, Curwensville Borough, Clearfield County, Pa.

9. Middlesex Township Municipal Authority, Middlesex Township, Cumberland County, Pa.

10. New Morgan Landfill Company, Inc., dba Conestoga Landfill, New Morgan Borough, Berks County, Pa.

11. Country Club of Harrisburg, Middle Paxton Township, Dauphin County, Pa.

12. AES Ironwood, L.L.C., South Lebanon Township, Lebanon County, Pa.

13. Lancaster County Solid Waste Management Authority-Frey Farm and Creswell Landfills, Manor Township, Lancaster County, Pa.

14. Manheim Township Commissioners, Manheim Township, Lancaster County, Pa.

15. Exelon General Co. LLC-Peach Bottom Atomic Power Station, Peach Bottom Township, York County, Pa.

16. City of Baltimore, Department of Public Works, Harford County, Md.

Projects Scheduled for Action Involving Diversions

1. Morgantown Properties, LP by CDG New Morgan Management Inc., New Morgan Borough, Berks County, Pa.

2. Town of Perryville, Cecil County, Md.

Dated: November 17, 2006.
Paul O. Swartz,
Executive Director.

[FR Doc. 06-9411 Filed 11-27-06; 8:45 am]

BILLING CODE 7040-01-M